DEPARTMENT OF HEALTH AND HUMAN SERVICES

Health Resources and Services Administration

Agency Information Collection Activities: Proposed Collection: Comment Request

ACTION: Notice.

SUMMARY: In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's function, (2) the accuracy of the estimated burden, (3) ways to enhance the quality, utility, and clarity of the information to be collected, and (4) the use of automated collection techniques or other forms of information technology to minimize the information collection burden.

Information Collection Request Title: Survey of Eligible Users of the National Practitioner Data Bank and the Healthcare Integrity and Protection Data Bank (OMB No. 0915-xxxx)—New

Abstract: The Health Resources and Services Administration (HRSA) plans to conduct a survey of the National Practitioner Data Bank and the Healthcare Integrity and Protection Data Bank (NPDB/HIPDB). The purpose of this survey is to assess the overall satisfaction of the eligible users of the NPDB/HIPDB. This survey will evaluate the effectiveness of the NPDB/HIPDB as flagging systems, sources of information, and use in decision making. Furthermore, this survey will collect information from eligible non-users of the NPDB/HIPDB to understand what can be done to aid the eligible non-users in registering, accessing, and using the information available in the NPDB/HIPDB. This survey is a follow-up to the NPDB/HIPDB users and non-users survey of 2008.

The survey will be administered to eligible users of the NPDB/HIPDB. The survey will also collect information from those that have had matched responses. A matched response occurs when an eligible user queries the NPDB/HIPDB then receives a report. The purpose of collecting the matched response data is to understand what actions or decisions are made when an eligible user receives a matched response.

The survey will be administered to non-users of the NPDB/HIPDB. Non-users of the NPDB/HIPDB are considered eligible users that have (i) never registered, (ii) registered in the past but are not currently registered, or (iii) are registered but are not using the NPDB/HIPDB. The information provided by the non-users will enable understanding of what needs to be done to facilitate and educate non-users on accessing and using the information in the NPDB/HIPDB. Finally, the survey will be administered to those that use the self-query service provided by the NPDB/HIPDB. Understanding self-query user satisfaction and how the information is used is an important component of the survey.

Eligible users of the NPDB/HIPDB will be asked to complete a web-based survey. Eligible non-users that have never registered in the NPDB/HIPDB will be contacted via telephone to obtain email information so that they will be able to complete a web-based survey. Data gathered from the survey will be compared with previous survey results. This survey will provide HRSA with the information necessary to improve the usability and effectiveness of the NPDB/HIPDB.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Form name | Number of respondents | Number of responses per respondent | Total responses | Average burden per response (in hours) | Total burden hours
NPDB/HIPDB Users Non-Matched Responses | 11,832 | 1 | 11,832 | 0.25 | 2,958
NPDB/HIPDB Users Matched Responses | 1,768 | 1 | 1,768 | 0.25 | 442
NPDB/HIPDB Self-Query Non-Matched Responses | 1,080 | 1 | 1,080 | 0.10 | 108
NPDB/HIPDB Self-Query Matched Responses | 120 | 1 | 120 | 0.10 | 12
NPDB/HIPDB Non-Users (Hospitals) | 1,200 | 1 | 1,200 | 0.10 | 120
NPDB/HIPDB Non-Users (All Others) | 400 | 1 | 400 | 0.10 | 40
Total | 16,400 |  | 16,400 |  | 3,680

ADDRESSES: Submit your comments to paperwork@hrsa.gov or mail the HRSA Reports Clearance Officer, Room 10-29, Parklawn Building, 5600 Fishers Lane, Rockville, MD 20857.

Deadline: Comments on this Information Collection Request must be received within 60 days of this notice.

Dated: December 17, 2012.
Bahar Niakan,
Director, Division of Policy and Information Coordination.

[FR Doc. 2012-30835 Filed 12-21-12; 8:45 am]

BILLING CODE 4165-15-P